FEDERAL HOUSING FINANCE BOARD

Sunshine Act Meeting; Announcing an Open Meeting of the Board

TIME AND DATE: 10 A.M., Wednesday, January 24, 2001.

PLACE: Board Room, Second Floor, Federal Housing Finance Board, 1777 F Street, NW., Washington, DC 20006

STATUS: The entire meeting will be open to the public.

MATTERS TO BE CONSIDERED DURING PORTIONS OPEN TO THE PUBLIC: • Interim Final Rule: Amendments to Bank Meeting Regulation.

• Updated and Revised: Federal Housing Finance Board's Strategic Plan 2000-2005.

• Notice of Proposed Rulemaking—Technical Amendments: Affordable Housing Program.

CONTACT PERSON FOR MORE INFORMATION: Elaine L. Baker, Secretary to the Board, (202) 408-2837.

James L. Bothwell,
Managing Director.

[FR Doc. 01-972 Filed 1-8-01; 3:52 pm]

BILLING CODE 6725-01-P